FEDERAL COMMUNICATIONS COMMISSION

47 CFR Part 73

[DA 03-600, Docket No. 02-122, RM-10444]

Radio Broadcasting Services; Lone Pine, CA

AGENCY: Federal Communications Commission.

ACTION: Proposed rule, dismissal.

SUMMARY: This document dismisses a pending petition for rulemaking to add an FM allotment in Lone Pine, California. The Audio Division had requested comment on a petition filed by Virgil Todd, proposing the allotment of Channel 249A at Lone Pine, California. See 67 FR 41364, June 18, 2002. The Audio Division required petitioner to include, with his comments, verification that the statements contained in the petition are accurate to the best of his knowledge. Petitioner did not file comments supporting the requested allotment. This document dismisses the petition for failure to demonstrate a continuing interest in the requested allotment and for failure to supply the verification required by Section 1.52 of the Commission's rules. See 47 CFR 1.52. The document therefore terminates the proceeding.

ADDRESSES: Federal Communications Commission, Washington, DC 20554.

FOR FURTHER INFORMATION CONTACT: Deborah A. Dupont, Media Bureau (202) 418-7072.

SUPPLEMENTARY INFORMATION: This is a synopsis of the Commission's Report and Order, MB Docket No. 02-122, adopted February 26, 2003, and released March 4, 2003. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554, telephone (202) 863-2893, facsimile (202) 863-2898, or via e-mail qualexint@aol.com.

Federal Communications Commission.
John A. Karousos,
Assistant Chief, Audio Division, Media Bureau.

[FR Doc. 03-6097 Filed 3-12-03; 8:45 am]

BILLING CODE 6712-01-P